DEPARTMENT OF AGRICULTURE

Rural Utilities Service

Basin Electric Power Cooperative: Deer Creek Station

AGENCY: Rural Utilities Service, USDA.

ACTION: Notice of availability of record of decision.

SUMMARY: The Rural Utilities Service, hereinafter referred to as RUS and/or the Agency, has issued a Record of Decision (ROD) for the Environmental Impact Statement (EIS) for the proposed Deer Creek Station Energy Facility project (Project) in Brookings and Deuel Counties, South Dakota. The Administrator of RUS has signed the ROD, which is effective upon signing. The EIS was prepared pursuant to the National Environmental Policy Act of 1969 (NEPA) (U.S.C. 4231 et seq.) and in accordance with the Council on Environmental Quality's (CEQ) regulations for implementing the procedural provisions of NEPA (40 CFR Parts 1500-1508), RUS's NEPA implementing regulations (7 CFR Part 1794), and the Western Area Power Administration's (Western) NEPA implementing regulations (10 CFR Part 1021). Western was the lead federal agency in preparation of the EIS as defined at 40 CFR 1501.5; RUS was a cooperating agency. The purpose of the EIS was to evaluate the potential environmental impacts of and alternatives to Basin Electric Power Cooperative's (Basin Electric) application for a RUS loan and a Western interconnection agreement to construct the proposed Project. The proposed Project's facility would include a new natural gas-fired combustion turbine set, a heat recovery steam generator, and a steam turbine generator set.

ADDRESSES: To obtain copies of the ROD, or for further information, contact: Ms. Lauren McGee, Environmental Scientist, USDA, Rural Utilities Service, 1400 Independence Avenue, SW., Stop 1571, Room 2239-S, Washington, DC 20250-1571, telephone: (202) 720-1482, fax: (202) 690-0649, or e-mail: lauren.mcgee@wdc.usda.gov. A copy of the ROD can be viewed online at: http://www.usda.gov/rus/water/ees/eis.htm.

SUPPLEMENTARY INFORMATION: Basin Electric's proposed Project is to construct, own, operate, and maintain the Deer Creek Station Energy Facility, a 300 MW combined-cycle natural gas generation facility, water pipeline, transmission line, transmission interconnection(s), and other associated facilities in Brookings and Deuel counties in eastern South Dakota. The purpose for the proposed Project is to serve increased load demand for electric power in the eastern portion of Basin Electric's service area. In 2007, Basin Electric prepared a forecast showing load and capability surpluses/deficits through the year 2021. The forecast predicted that by 2014, there will be a deficit of 800-900 MW for the eastern portion of its service area. The proposed Project's addition of 300 MW of generation will help meet Basin Electric's future energy requirements.

In accordance with NEPA, the CEQ regulations for implementing the procedural provisions of NEPA, and applicable agency NEPA implementing regulations, Western and RUS prepared an EIS to assess the potential environmental impacts associated with the proposed Project. The decision being documented in RUS's ROD is that the Agency agrees to consider, subject to loan approval, funding the proposed Project at the White Site 1 location. More details regarding RUS's regulatory authority, rationale for the decision, and compliance with applicable regulations are included in the ROD. Because two distinct federal actions are being proposed, RUS and Western decided to issue separate RODs.

On February 6, 2009, Western published in the Federal Register a Notice of Intent to prepare an EIS for the proposed Project. On February 26, 2010, RUS published its Notice of Availability (NOA) of the Draft EIS for the proposed Project in the Federal Register. The U.S. Environmental Protection Agency acknowledged receipt of the Draft EIS on February 5, 2010, from Western. The 45-day comment period ended on March 22, 2010. Because few comments were received which did not result in the substantial modification of the alternatives or the environmental analysis in the Draft EIS, Western and RUS prepared an abbreviated Final EIS to address the comments received. RUS published its NOA of the Final EIS for the proposed Project in the Federal Register on June 11, 2010. The U.S. Environmental Protection Agency acknowledged receipt of the Final EIS on May 28, 2010, from Western. The 30-day waiting period ended on June 28, 2010. One comment was received; it was addressed in RUS's ROD.

After considering various ways to meet these future needs, Basin Electric identified construction of the proposed Project as its best course of action. This EIS considered 16 alternatives to meet the future energy requirements of the eastern portion of its service area and five alternative site locations. These alternatives were evaluated in terms of cost-effectiveness, technical feasibility, and environmental factors (e.g., soils, topography and geology, water resources, air quality, biological resources, the acoustic environment, recreation, cultural and historic resources, visual resources, transportation, farmland, land use, human health and safety, the socioeconomic environment, environmental justice, and cumulative effects).

The EIS analyzes in detail the No Action Alternative and the Action Alternative (construction of the Deer Creek Station Energy Facility) at two separate locations: White Site 1 (Brookings County, T111N R48W, Section 25 NE Quarter) and White Site 2 (Brookings County, T111N R48W, Section 2 NW Quarter). The No Action Alternative would expose Basin Electric and its member cooperatives to higher prices by purchasing power on the volatile open electric market. The Action Alternative at White Site 1 would be located approximately 0.5-miles from the existing White Substation, would be further away from occupied residences, and has more suitable site conditions than White Site 2. The Action Alternative at White Site 2 would require the construction of a new substation for interconnection to the grid, would be closer to occupied residences, and has site conditions that are less suitable for the type of development being proposed. The resources or environmental factors that could be affected by the proposed Project were evaluated in detail in the EIS. These issues are summarized in Table ES-1: “Summary of Potential Impacts of Deer Creek Station,” of the EIS.

Based on an evaluation of the information and impact analyses presented in the EIS, including the evaluation of all alternatives, and in consideration of the Agency's NEPA implementing regulations, Environmental Policies and Procedures, as amended (7 CFR Part 1794), RUS finds that the evaluation of reasonable alternatives is consistent with NEPA. The Agency has selected the Action Alternative at White Site 1 as its preferred alternative. Because the proposed Project may involve action in floodplains or wetlands, this Notice also serves as a final notice of action in floodplains and wetlands (in accordance to Executive Orders 11988 and 11990). This Notice concludes RUS's compliance with NEPA and the Agency's “Environmental Policies and Procedures.”

Dated: July 15, 2010.
Jonathan Adelstein,
Administrator, Rural Utilities Service.

[FR Doc. 2010-18294 Filed 7-26-10; 8:45 am]

BILLING CODE P